ENVIRONMENTAL PROTECTION AGENCY

40 CFR Part 52

[EPA-R05-OAR-2021-0545; FRL-12100-02-R5]

Air Plan Approval; Wisconsin; Second Period Regional Haze Plan

AGENCY: Environmental Protection Agency (EPA).

ACTION: Final rule.

SUMMARY: The Environmental Protection Agency (EPA) is approving the Regional Haze State Implementation Plan (SIP) revision submitted by the Wisconsin Department of Natural Resources (Wisconsin or WDNR) on July 30, 2021, along with subsequent information discussed herein, as satisfying applicable requirements under the Clean Air Act (CAA) and EPA's Regional Haze Rule (RHR) for the program's second implementation period. Wisconsin's SIP submission and the subsequent information addresses the requirement that states must periodically revise their long-term strategies for making reasonable progress towards the national goal of preventing any future, and remedying any existing, anthropogenic impairment of visibility, including regional haze, in mandatory Class I Federal areas. The SIP submission also addresses other applicable requirements for the second implementation period of the regional haze program. EPA is taking this action pursuant to sections 110 and 169A of the CAA.

DATES: This final rule is effective on December 19, 2024.

ADDRESSES: EPA has established a docket for this action under Docket ID No. EPA-R05-OAR-2021-0545. All documents in the docket are listed on the www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays. We recommend that you telephone Charles Hatten, Environmental Engineer, at (312) 886-6031 before visiting the Region 5 office.

FOR FURTHER INFORMATION CONTACT: Charles Hatten, Air and Radiation Division (AR-18J), Environmental Protection Agency, Region 5, 77 West Jackson Boulevard, Chicago, Illinois 60604, (312) 886-6031, hatten.charles@epa.gov.

SUPPLEMENTARY INFORMATION: Throughout this document whenever “we,” “us,” or “our” is used, we mean EPA.

Table of Contents

I. Background

II. EPA's Evaluation of WDNR's Documentation Regarding Ahlstrom-Munksjö-Rhinelander Mill's Boiler B26

III. Response to Comments

IV. What action is EPA taking?

V. Statutory and Executive Order Reviews

I. Background

On August 9, 2024, (89 FR 65492), EPA proposed to partially approve and partially disapprove the Wisconsin regional haze SIP revision. In the same notice of proposed rulemaking (NPRM), EPA also proposed to approve the Wisconsin regional haze SIP in full if WDNR provided evidence that boiler B26 at the Ahlstrom-Munksjö-Rhinelander Mill had permanently ceased operations. A detailed analysis of Wisconsin's plan and EPA's evaluation are contained in the NPRM and will not be restated here.

II. EPA's Evaluation of WDNR's Documentation Regarding Ahlstrom-Munksjö-Rhinelander Mill's Boiler B26

As noted in the NPRM, WDNR indicated that the Ahlstrom-Munksjö-Rhinelander Mill ceased operation of its coal-fired cyclone Boiler B26 in 2022 and decided to retire it. In its place, the facility installed a new natural gas-fired Boiler B40 under title I construction permit 22-MMC-035, which WDNR issued on May 24, 2022.¹ The facility's application for construction permit 22-MMC-035 stated, “The facility intends to install a new natural gas fired boiler and retire its coal fired cyclone boiler...with the new boiler (B40) being used to meet steam demand in winter months.” The application described the retirement of Boiler B26 as part of a two-phased project to retire all coal-fired boilers at the Ahlstrom-Munksjö-Rhinelander Mill. This plan was articulated in 2013 in the preliminary determination and analysis for construction permit 13-SDD-014, which stated that upcoming operational changes “will result in the removal of an additional coal fired boiler (B26).” As noted in the NPRM, WDNR stated that the shutdown of Boiler B26 would be reflected in an upcoming title V operating permit renewal.

¹ The application and final permit for construction permit 22-MMC-035 are included in the docket and is available on WDNR's website: https://apps.dnr.wi.gov/warp_ext/AM_PermitTracking2.aspx?id=3002301.

Following the publication of the NPRM, on September 17, 2024, WDNR issued the renewal for the Ahlstrom-Munksjö-Rhinelander Mill's operation permit. The operation permit 74400810A-P30 is the renewal of the facility's title V operation permit 744008100-P22.² The operation permit renewal includes a condition that “Operation of coal-fired Boiler B26 is prohibited,” a condition which became effective immediately upon issuance of the permit. In Table 2 of the operation permit renewal, the status of Boiler B26, along with its associated emissions stacks S09 and S32, electrostatic precipitator C06, baghouse C32, and boiler fly ash handling system Process P52, are all denoted as “will no longer be operated.” As publicly reported,³ the shuttering of Boiler B26 allowed the Ahlstrom-Munksjö-Rhinelander Mill to also eliminate its generation of fly ash. The 2022 and 2023 Air Emissions Inventory Summary Reports for the Ahlstrom-Munksjö-Rhinelander Mill, published by WDNR, show that B26 last operated in the second quarter of 2022.⁴

² On August 2, 2024, WDNR provided notice to the public of the draft proposed operation permit 74400810A-P30 for the Ahlstrom-Munksjö-Rhinelander Mill for a 30-day comment period. The operation permit 74400810A-P30 issued on September 17, 2024, as well as the analysis and preliminary determination for the operation permit renewal are publicly available on WDNR's website at https://dnr.wisconsin.gov/topic/AirPermits. Copies of both documents are included in the docket for this rulemaking.

³ “Rhinelander, Mosinee Mills Convert from Coal to Natural Gas with Multimillion-dollar Investment,” Becky Jacobs, Wausau Daily Herald, published September 25, 2023. A copy of this news article is included in the docket.

⁴ The 2022 and 2023 Air Emissions Inventory Summary Reports for the Ahlstrom-Munksjö-Rhinelander Mill, published by WDNR, are included in the docket and are available on WDNR's website at https://apps.dnr.wi.gov/warp_ext/AM_PermitTracking2.aspx?id=3002301.

As noted in the NPRM, “if the Ahlstrom-Munksjö-Rhinelander Mill were to resume the operation of Boiler B26 or replace it with a comparable coal-fired boiler after the title V operation permit 74400810A-P30 is renewed, either boiler would be considered a new source and the emissions would be limited by WDNR's construction permitting process requiring a PSD [Prevention of Significant Deterioration] review and BACT [Best Available Control Technology].” 89 FR 65492, 65506 (August 9, 2024). By issuing the title V operation permit renewal 74400810A-P30, WDNR revoked the facility's permission to operate Boiler B26, specifically, under permit condition ZZZ.11, and a revision to the operation permit renewal on its own would not allow Boiler B26 to recommence operation. In order for the facility to regain the ability to legally operate Boiler B26, WDNR would require the Ahlstrom-Munksjö-Rhinelander Mill to acquire a new construction permit under Wisconsin's SIP-approved construction permitting program. The permit application would trigger New Source Review and PSD requirements under Wisconsin Administrative Code NR 405, including BACT, and analyses of air quality and air quality impacts. EPA finds that Wisconsin has met the terms described in EPA's proposal in order to received full approval. In place of coal-fired Boiler B26, Ahlstrom-Munksjö-Rhinelander constructed new Boiler B40 in 2022 such that it would burn natural gas only, using low oxides of nitrogen (NOX) burners and flue gas recirculation to reduce NOX emissions.⁵ According to the 2023 Air Emissions Summary Inventory Report, emissions for Boiler B40 in its first full year of operation resulted in 6.84 tons per year (tpy) NOX and 0.114 tpy sulfur dioxide (SO2).

⁵ Construction and operation of Boiler B40 was approved through construction permit 22-MMC-035 and operation permit renewal 74400810A-P30, both of which include the emission limitations applicable to Boiler B40 for particulate matter (PM10 and PM2.5), visible emissions, and NOX. In the analysis and preliminary determination, Boiler B40's potential to emit was determined to be 2.19 tpy PM10, 2.19 tpy PM2.5, 15.8 tpy NOX, and 0.25 tpy SO2.

Based on the provisions in operation permit renewal 74400810A-P30, in addition to the information provided in WDNR's analysis, preliminary determination, and in the previous permitting actions described above, EPA finds that Wisconsin has produced sufficient evidence that coal-fired cyclone Boiler B26 at the Ahlstrom-Munksjö-Rhinelander Mill has permanently ceased operation and is being decommissioned. Thus, EPA is fully approving Wisconsin's regional haze plan as satisfying the regional haze requirements for the second implementation period.

The retirement of Boiler B26 at the Ahlstrom-Munksjö-Rhinelander Mill provides federally enforceable and permanent emission reductions from one of Wisconsin's largest sources. WDNR initially determined that continued operation of Boiler B26, with the new limits for SO2 and heat input developed under the SO2 attainment plan for the Rhinelander area, would reduce the potential to emit NOX by 13 percent and SO2 by 31 percent. Now, with the retirement of Boiler B26 and the replacement with Boiler B40, the 2016 emissions from Boiler B26 compared to the potential to emit for Boiler B40 in the analysis and preliminary determination demonstrate that emissions have been reduced by 99 percent for NOX and 100 percent for SO2.

The permanent cessation of operation of both Boiler B26 and Boiler B11 at the Ahlstrom-Munksjö-Kaukauna Mill demonstrate additional emission reductions during the second implementation period than were projected in WDNR's initial SIP submittal. Tables 1 and 12 in appendix 3 of Wisconsin's submittal compared 2016 actual emissions with 2028 projected emissions as if the emissions from both boilers continued at the same levels from 2016 to 2028. With the cessation of operation of coal-fired boilers B26 and B11, there are additional emission reductions from Boiler B26 at the Ahlstrom-Munksjö-Rhinelander Mill (1,145 tpy NOX and 1,596 tpy SO2); and Boiler B11 at Ahlstrom-Munksjö-Kaukauna Mill (1,070 tpy NOX and 5,213 tpy SO2). Accounting for the permanent retirement of these two boilers, the 2028 projected emissions in Table 1 in appendix 3 of WDNR's SIP submittal for non-Electric Generating Units (non-EGUs) with an emissions divided by distance (Q/d) greater than 1 would be adjusted downward from 10,546 tpy to 8,331 tpy for NOX, and from 15,018 tpy to 8,209 tpy for SO2. Compared to the total 2016 emissions of 14,094 tpy NOX and 18,963 tpy SO2 for non-EGUs with a Q/d greater than 1 shown in Table 1 of appendix 3 of WDNR's SIP submittal, the permanent shutdowns represent a decrease in emissions of 41 percent NOX and 57 percent SO2 from 2016 to 2028 among these non-EGUs. Together with the other emission reductions chronicled in the NPRM, these permanent shutdowns contribute to substantial SO2 and NOX emission reductions and associated visibility improvements for the second implementation period at the affected Class I areas WDNR identified: Isle Royale National Park, Voyageurs National Park, Seney Wilderness Area, and Boundary Waters Canoe Wilderness Area.

III. Response to Comments

EPA provided a 30-day review and comment period in the NPRM. The comment period ended September 9, 2024. We received a total of four comments, only two of which were substantive. Both substantive comments received were from agencies with authority as Federal Land Managers (FLMs) over Federal Class I Areas: the United States Forest Service (USFS) and the United States National Park Service (NPS). The other two comments received were from individuals and raised issues that are not relevant to this action. Neither of the two comments from individuals addressed the specific regulation or provision in question or recommended a different action on the SIP submission from what EPA proposed. All comments received are included in the rulemaking docket. Comments from USFS and NPS are summarized and addressed below.

Comment: NPS stated that Wisconsin's notice to the public of the proposed Regional Haze SIP revision did not include a summary of the FLMs' conclusions and recommendations as required by 42 U.S.C. 7491(d).

Response: As part of its notice to the public on April 29, 2021, WDNR included a link to its proposed Regional Haze SIP revision that included a summary of the FLMs conclusions and recommendations, and WDNR's responses to the FLM comments, as well as another link to WDNR's website with the FLMs' full written comments. EPA finds that the information that WDNR provided in its public notice meets both the statutory and regulatory requirements. CAA 169A(d) and 40 CFR 51.308(i)(3).

Comment: USFS stated that the final version of the analysis performed by the Lake Michigan Air Directors Consortium (LADCO), provided in appendix 2 of Wisconsin's SIP submittal, shows that Wisconsin is the second largest contributing state on the most visibly impaired days to the Boundary Waters Canoe Area Wilderness.

Response: EPA acknowledges this information. LADCO's analysis, described in appendix 2 of Wisconsin's SIP submittal, modeled projected contributions from various sources to visibility impacts at the Class I areas in 2028 based on 2016 emissions. LADCO's modeling projected sources in Wisconsin would contribute 0.9 Mm⁻ ¹ or 2.3 percent to the light extinction at the Boundary Waters Canoe Area Wilderness on the 20 percent most impaired days, ranking Wisconsin second among contributions from other states.

Comment: USFS and NPS reiterate comments both agencies had provided to Wisconsin during the FLM consultation period and the state's public comment period regarding WDNR's selection of sources for a four-factor analysis. In so doing, USFS and NPS disagree with EPA's determination that WDNR's source selection results are reasonable. USFS and NPS state that Wisconsin's approach for source selection did not identify a sufficient number of sources for a four-factor analysis. USFS stated that WDNR's approach captured a smaller percentage of SO2 and NOX emissions than those of other LADCO states. NPS contended that WDNR used a visibility impact threshold far more lenient than that used by other states in EPA's Region 5 to identify the affected Class I areas. NPS also notes that WDNR cited the uniform rate of progress and emissions from out-of-state sources as a rationale for its source selection process. As such, USFS and NPS argue that WDNR's selection, which resulted in the identification of three sources for further evaluation, was not sufficient.

During Wisconsin's public comment period, USFS and NPS recommended that WDNR select additional facilities with a Q/d between 4 and 10 to be screened in for a four-factor analysis. The facilities USFS and NPS identified include: Wisconsin Rapids Paper Mill, Catalyst Paper-Biron Mill, Graymont Superior, Ahlstrom-Munksjö-Mosinee Mill, and Calumet Superior Refinery. While WDNR characterized these facilities as being “well controlled,” USFS and NPS asserted that they are not “effectively controlled.” USFS and NPS suggest that a four-factor analysis at these facilities would likely identify cost-effective controls. NPS noted that EPA's July 8, 2021, “Clarifications Regarding Regional Haze State Implementation Plans for the Second Implementation Period” (“2021 Clarifications Memo”) ⁶ reinforces the requirement under the Regional Haze Rule that states must consider selecting sources identified by FLMs and either perform a four-factor analysis or provide a well-reasoned explanation as to why the state is choosing not to do so.

⁶ See Section 2.1 of Clarifications Regarding Regional Haze State Implementation Plans for the Second Implementation Period. EPA Office of Air Quality Planning and Standards, Research Triangle Park (July 8, 2021). (2021 Clarifications Memo) https://www.epa.gov/system/files/documents/2021-07/clarifications-regarding-regional-haze-state-implementation-plans-for-the-second-implementation-period.pdf.

Response: The Regional Haze Rule does not require states to consider controls for all sources, all source categories, or any or all sources in a particular source category. Rather, states have discretion to choose any source selection methodology or threshold that is reasonable, provided that the choices they make are reasonably explained and produce a reasonable outcome.⁷ To this end, 40 CFR 51.308(f)(2)(i) requires that a state's SIP submission include “a description of the criteria it used to determine which sources or groups of sources it evaluated.” The technical basis for source selection must also be appropriately documented, as required by 40 CFR 51.308(f)(2)(iii).

⁷ See Clarifications Memo at sections 2 and 2.1.

WDNR reasonably explained its criteria and the technical basis for its process to select units with a Q/d greater than 10 for a potential four-factor analysis as well as its reasoning for not selecting facilities identified by the FLMs with a Q/d between 4 and 10. Additionally, WDNR's approach resulted in a reasonable outcome, identifying the units with the greatest potential to impair visibility at Class I areas, as discussed below.

WDNR first considered the Class I areas affected during the second implementation period. Although NPS contends that WDNR used a more lenient visibility impact threshold than other states in EPA's Region 5, Wisconsin's approach was consistent with the 2 percent light extinction threshold LADCO identified with its 2028 source apportionment modeling as accounting for 92 percent or more of the total light extinction applied to all six LADCO states as well as seven other states on the most impaired days. Using the 2 percent threshold, WDNR determined that Wisconsin emissions in the second implementation period impact visibility impairment at Isle Royale National Park, Seney Wilderness Area, and Boundary Waters Canoe Wilderness Area. Additionally, WDNR included Voyageurs National Park as a carryover from the first implementation period even though LADCO's 2028 projections estimated Wisconsin's contribution to total light extinction there as 1 percent. As to Wisconsin's impact on other Class I areas, WDNR explained that LADCO's 2028 source apportionment modeling identified Wisconsin as contributing to the total light extinction at 42 other Class I areas, however, at levels less than the 2 percent threshold. As such, WDNR noted that Wisconsin did not receive any requests to engage in interstate consultation for the second implementation period.⁸

⁸ See Wisconsin's July 30, 2021, Regional Haze SIP revision submittal, page 13.

After considering the Class I areas affected during the second implementation period, WDNR chose a Q/d threshold of 10 based on identifying a significant gap between the largest four units with a Q/d ranging from 11 to 22 and the remaining 41 units, all with a Q/d of 6.1 or less.⁹ For non-EGUs, all but two units were below a Q/d of 4. Since 2016, both units have instituted control measures and now have a Q/d far less than 4. These two non-EGUs are Catalyst Paper-Biron Boiler B23, which switched to natural gas in 2017, reducing SO2 emissions from 2,506 tpy in 2016 to 0.1115 tpy in 2017; ¹⁰ and Cardinal FG-Menominee Boiler P01, which installed selective catalytic reduction in 2020, reducing NOX emissions from 1,574 tpy in 2016 to 190 tpy in 2021.¹¹ For EGUs, there were three units with a Q/d between 4 and 10, none of which were on the FLMs' list: Alliant Energy-Columbia Power Plant, B21 and B22, as well as JP Madgett, B25. Of the units remaining on the FLMs' list above, all but one have a unit Q/d less than 3.4. For Ahlstrom-Munksjö-Mosinee Mill, Unit B20 has a Q/d of 4.2, while all other units are below a Q/d of 1.2. For both Graymont Superior and Calumet Superior Refinery, all units are below a Q/d of 1.8. For Wisconsin Rapids, all units are below a Q/d of 3.4, and the FLMs acknowledged that the facility has been idled indefinitely, suggesting it be evaluated at the time a decision is made to restart it.

⁹ See Figure 5A and Table 12, as well as Tables 1 and 2 of appendix 3 of Wisconsin's July 30, 2021, Regional Haze SIP submittal.

¹⁰ Catalyst Paper-Biron Mill's 2017 Air Emissions Inventory Summary Report is included in the docket and is available on WDNR's website.

¹¹ Cardinal FG-Menominee's 2021 Air Emissions Inventory Summary Report is included in the docket and is available on WDNR's website.

Although these units mentioned in the paragraph above were below Wisconsin's Q/d threshold of 10, WDNR addressed them in its July 30, 2021, SIP submittal because they were flagged by the FLMs. WDNR characterized them as “well controlled,” providing information on their control measures and emissions limits within the applicable title V operating permits. Notwithstanding this information, USFS and NPS contend that those units are not “effectively controlled,” a term described in EPA's “Guidance on Regional Haze State Implementation Plans for the Second Implementation Period” (“2019 Guidance”) ¹² and 2021 Clarifications Memo. The 2019 Guidance and 2021 Clarifications Memo explain, “[A] source that otherwise would undergo a four-factor analysis (e.g., because it exceeds a threshold or emissions divided by distance or Q/d, visibility, or other source-selection threshold) may forgo a full four-factor analysis if it is already `effectively controlled.' ” See Section 2.3 of the 2021 Clarifications Memo. However, none of the additional units identified by the FLMs were excluded by WNDR from a four-factor analysis because they were “effectively controlled”. Rather, the additional units identified by the FLMs were excluded from consideration because they did not exceed WDNR's source selection threshold. Therefore, pursuant to WDNR's source selection criteria, which EPA is determining is reasonable, they are not sources that would need to be considered by WDNR for a four-factor analysis or a determination of whether existing measures at the units are necessary for reasonable progress.

¹² Guidance on Regional Haze State Implementation Plans for the Second Implementation Period. https://www.epa.gov/visibility/guidance-regional-haze-state-implementation-plans-second-implementation-period EPA Office of Air Quality Planning and Standards, Research Triangle Park (August 20, 2019).

EPA agrees that Wisconsin examined a reasonable set of sources by choosing criteria that would focus on the largest sources having the greatest potential to impair visibility at Class I areas. Additionally, WDNR's threshold, based on unit Q/d rather than facility-wide Q/d, is appropriate in Wisconsin's case since any new control measures would be initiated on a unit-by-unit basis, rather than a facility-wide basis. In sum, EPA is determining that the WDNR's decision to only select units with a Q/d greater than 10 was reasonable in this case. While NPS raised concerns that WDNR cited the uniform rate of progress and emissions from out-of-state sources in describing its source selection process, EPA's determination is based on the reasoning provided above, which was further elaborated upon in the NPRM. Thus, Wisconsin's regional haze plan has satisfied the regional haze requirements of 40 CFR 51.308(f)(2)(i) regarding the sources it selected to evaluate and determine the potential emission reduction measures necessary to make reasonable progress during the second implementation period.

Comment: USFS commented that WDNR's decision to not require technically feasible and cost-effective emission controls identified through the four-factor analyses for the Ahlstrom-Munksjö-Kaukauna and Rhinelander Mills deserves scrutiny because of potential implications for other paper mills mentioned in WDNR's 2021 Regional Haze submittal. Regardless of the switch to natural gas and retirements of coal-fired boilers, USFS notes that WDNR's line of reasoning referenced the universal rate of progress, emission reductions from other point sources, and the impact on a facility's profit margin. USFS maintains that this approach is not consistent with the 2019 Guidance and 2021 Clarifications Memo.

Response: The other paper mills mentioned in WDNR's 2021 Regional Haze SIP submittal were not selected during WDNR's source selection process. These include the Wisconsin Rapids Paper Mill, Catalyst Paper—Biron Mill, Georgia-Pacific Broadway Street Paper Mill, and Ahlstrom-Munksjö-Mosinee. WDNR's determinations of control measures necessary for reasonable progress were specific to the Ahlstrom-Munksjö-Kaukauna and Rhinelander Mills, not other sources that were not selected for further evaluation. As noted in the NPRM, although WDNR evaluated add-on controls, WDNR found that Ahlstrom-Munksjö-Kaukauna and Rhinelander Mills' retirement of coal-fired boilers constituted the emissions reduction measures that are necessary for reasonable progress for the two units at these two facilities. Aside from WDNR's statements regarding the universal rate of progress, emission reductions from other sources, and profit margins, EPA is determining, based on the reasons above and further elaborated in the NPRM, that Wisconsin has satisfied the requirements of 40 CFR 51.308(f)(2)(i) related to evaluating and determining the emission reduction measures that are necessary to make reasonable progress by applying the four statutory factors to sources in a control analysis.

Comment: USFS raised concerns regarding the lack of Federal enforceability for the publicly announced shutdowns that had not yet occurred for the Alliant Energy-Columbia Power Plant and Alliant Energy-Edgewater. USFS noted, “Relying on public announcements has already been problematic as can be seen by the shifting shutdown dates for Columbia, Edgewater, and Oak Creek.”

Response: As described in the NPRM, WDNR did not rely on the publicly announced shutdowns of the Alliant Energy-Columbia Power Plant, Alliant Energy-Edgewater, or We Energies-Oak Creek Power Plant for reasonable progress.

For the Alliant Energy-Columbia Power Plant, both B21 and B22 each had a Q/d of 6, which was below WDNR's source selection threshold. WDNR identified the existing control measures in place and noted that the planned shutdown in 2025 was not relied upon by LADCO's modeling in assessing visibility impacts. As explained above, EPA finds WDNR's approach to source selection based on a Q/d of 10 is reasonable, so making the planned shutdown of B21 and B22 federally enforceable would not be considered necessary for reasonable progress in the second implementation period.

WDNR also did not rely on the publicly announced shutdown of Alliant Energy-Edgewater's Boiler B25 for reasonable progress. With a Q/d of 11, WDNR selected Boiler B25 at Alliant Energy-Edgewater for further analysis since it exceeded WDNR's Q/d threshold of 10. As noted in the NPRM, WDNR explained its decision to forgo a full four-factor analysis on the basis that the existing controls for Boiler B25 are effective and not necessary for reasonable progress. “With the combination of recently installed SO2 and NOX controls along with limits in the Federal consent decree that ensure emission rates will not increase, including an SO2 limit well below the SO2 limit of 0.2 pounds per million British thermal units (lbs/MMBtu) in the Mercury and Air Toxics Standards (MATS) rule for coal-fired EGUs, WDNR determined the existing measures are not necessary to make reasonable progress or prevent future emission increases and, thus, do not need to be included in the regulatory portion of the SIP.” 89 FR 65492, 65505, August 9, 2024. WDNR's determination is consistent with section 2.3 of the 2021 Clarifications Memo as discussed above.

For We Energies-Oak Creek Power Plant, the planned retirements are discussed in response to the comment below.

Comment: USFS questioned the Federal enforceability of various control measures at the following facilities: We Energies—Oak Creek Power Plant, Wisconsin Public Service Corporation—Weston Power Plant, and Ahlstrom-Munksjö—Kaukauna Mill. For both We Energies—Oak Creek Power Plant and Wisconsin Public Service Corporation—Weston Power Plant, USFS asked for confirmation of federally enforceable shutdown dates at both plants. For Ahlstrom-Munksjö—Kaukauna Mill, USFS questioned the Federal enforceability of the fuel switch to natural gas for Boiler B09. In addition, USFS indicated that although emission reductions from these facilities were not relied upon in LADCO's 2028 modeling for assessing visibility impacts, whether or not a certain emission reduction is accounted for in LADCO's modeling has no relevance to whether or not it would be considered “surplus” and does not, in and of itself, make it federally enforceable and permanent.

Response: None of the units at We Energies—Oak Creek Power Plant and Wisconsin Public Service Corporation—Weston Power Plant nor Boiler B09 at Ahlstrom-Munksjö—Kaukauna Mill were identified during WDNR's source selection process as having a Q/d greater than 10. For the reasons discussed above, EPA proposed to approve Wisconsin's approach for units with a Q/d less than 10, which did not pursue a demonstration of existing effective controls as described in the 2019 Guidance or determine, for example, that permanent and federally enforceable shutdowns or other measures would be required for reasonable progress.

WDNR did not rely on the planned shutdowns at We Energies—Oak Creek Power Plant and Wisconsin Public Service Corporation—Weston Power Plant or the conversion to natural gas for B09 at Ahlstrom-Munksjö—Kaukauna Mill as a reason to exclude these units from four-factor analyses. However, recent and upcoming shutdowns of these units provide additional support for WNDR's decision making and further emissions reductions, as well as insight into the potential reduction in visibility impairment that was not accounted for in LADCO's 2028 modeled projections. For We Energies—Oak Creek Power Plant, WDNR listed six boilers under Table 1 of appendix 3 of their submittal and indicated that four would be retired by 2025: B25, B26, B27, and B28. For Wisconsin Public Service Corporation Weston—Power Plant, WDNR listed 12 units under Table A2-1 of appendix 2 of their submittal and indicated the following 8 units are projected to have zero emissions in 2028: B02, B12, B13, F24, F26, P36, P43, and P56. For Ahlstrom-Munksjö—Kaukauna Mill Boiler B09, WDNR's four-factor analysis noted that the unit switched to natural gas in 2016, and the federally enforceable title V operation permit 44503118A-P30 referenced in the NPRM reflects the permit modification that has been in effect since 2016, stating, “The permittee shall only burn natural gas in Boiler B09.”

Comment: USFS requested a correction to Footnote 31 in the NPRM to clarify that Rainbow Lake Wilderness is within the U.S. Department of Agriculture, not within the U.S. Department of Interior. See 89 FR 65501, August 9, 2024.

Response: Footnote 31 in the NPRM explains that Rainbow Lake Wilderness Area did not meet the criteria established by the Department of Interior to identify visibility as an important value there. See 44 FR 69122, November 30, 1979. CAA section 169A(a)(2) assigns the Department of the Interior (in consultation with other FLMs) the responsibility to identify Class I areas where visibility is an important value. Therefore, the footnote accurately reflects the determination made by rulemaking in 1979, and no correction to Footnote 31 is needed. EPA acknowledges that Rainbow Lake Wilderness Area is a mandatory Class I Federal area managed by the USFS as an agency within the U.S. Department of Agriculture.

After considering the FLMs' comments, EPA finds that nothing in the comments warrants a change to EPA's proposed action. Therefore, EPA is finalizing its approval of the Wisconsin SIP submission for the second planning period.

IV. What action is EPA taking?

In consideration of the documentation from WDNR that coal-fired Boiler B26 at the Ahlstrom-Munksjö—Rhinelander Mill has permanently ceased operation and is being decommissioned, EPA is approving the Regional Haze SIP revision submitted by WDNR on July 30, 2021, as satisfying the regional haze requirements for the second implementation period contained in 40 CFR 51.308(f).

V. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements E.O. 12898 and defines EJ as, among other things, the just treatment and meaningful involvement of all people, regardless of income, race, color, national origin, or Tribal affiliation, or disability in agency decision-making and other Federal activities that affect human health and the environment.”

Wisconsin did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898/14096 of achieving EJ for communities with EJ concerns.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by January 21, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Particulate matter, Sulfur oxides.

Dated: November 12, 2024.
Debra Shore,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. Section 52.2593 is amended by adding paragraph (c) to read as follows:

§ 52.2593 Visibility protection.

* * * * *

(c) Approval. Wisconsin submitted its regional haze plan for the second implementation period to EPA on July 30, 2021. The Wisconsin regional haze plan meets the requirements of Clean Air Act sections 169A and 169B and the Regional Haze Rule in 40 CFR 51.308.

* * * * *

[FR Doc. 2024-26833 Filed 11-18-24; 8:45 am]

BILLING CODE 6560-50-P